DEPARTMENT OF THE INTERIOR

Bureau of Land Management

[COF000-LLCOF00000-L19900000-XZ0000]

Notice of Meeting, Front Range Resource Advisory Council

AGENCY: Bureau of Land Management, Interior.

ACTION: Notice of public meeting.

SUMMARY: In accordance with the Federal Land Policy and Management Act and the Federal Advisory Committee Act of 1972, the U.S. Department of the Interior, Bureau of Land Management (BLM) Front Range Resource Advisory Council (RAC), will meet as indicated below.

DATES: The meeting will be held on November 14, 2012, from 9:15 a.m. to 4:15 p.m.

ADDRESSES: BLM Front Range District Office, 3028 East Main Street, Cañon City, CO 81212.

FOR FURTHER INFORMATION CONTACT: Denise Adamic, Front Range RAC Coordinator, BLM Front Range District Office, 3028 E. Main St., Cañon City, CO 81212. Phone: (719) 269-8553. Email: dadamic@blm.gov.

SUPPLEMENTARY INFORMATION: The 15-member Council advises the Secretary of the Interior, through the BLM, on a variety of planning and management issues associated with public land management in the BLM Front Range District, which includes the Royal Gorge Field Office and the San Luis Valley Field Office, Colorado. Planned topics of discussion include: introductions of new RAC members and BLM staff, recognition of service for outgoing RAC members, an ethics presentation for new members, a presentation on the history of the Garden Park fossil area and a field trip to the Garden Park fossil area. The public is encouraged to make oral comments to the Council at 9:45 a.m. or written statements may be submitted for the Council's consideration. Summary minutes for the RAC meetings will be maintained in the Royal Gorge Field Office and will be available for public inspection and reproduction during regular business hours within thirty (30) days following the meeting. Previous meeting minutes and agendas are available at: www.blm.gov/co/st/en/BLM_Resources/racs/frrac/co_rac_minutes_front.html.

Dated: September 19, 2012.
Helen M. Hankins,
BLM Colorado State Director.

[FR Doc. 2012-23796 Filed 9-26-12; 8:45 am]

BILLING CODE 4310-JB-P